POSTAL SERVICE

39 CFR Part 20

Customs Label Requirements When Mailing Items Internationally

AGENCY: Postal Service™.

ACTION: Final rule.

SUMMARY: The Postal Service has revised its customs label requirements when mailing items internationally. This revision will comply with the Universal Postal Union (UPU) Letter Post Regulations.

DATES: Effective Date: July 1, 2009.

FOR FURTHER INFORMATION CONTACT: Rick Klutts, 813-877-0372.

SUPPLEMENTARY INFORMATION: The Postal Service is revising Mailing Standards of the United States Postal Service, International Mail Manual (IMM®) part 123 and sections 217.3, 232.4, 244.5, and 276 to comply with Article RL 152.5 of the Universal Postal Union (UPU) Letter Post Regulations. Under that provision, all small packet items must bear customs declarations CN 22 (PS Form 2976) or CN 23 (PS Form 2976-A), depending on value and regardless of whether the items are ordinarily subject to customs control in the destination country. Small packets are Letter Post items that are not letters, cards, or flats, and that typically contain merchandise or other goods.

In terms of Postal Service products, the small packet category includes package-size First-Class Mail International™ items and the Priority Mail® Small Flat-Rate Box, as well as certain Priority Mail Flat-Rate Envelopes meeting specific physical characteristics. We clarify that all such items, regardless of contents or value, must bear a PS Form 2976, Customs Declaration CN 22—Sender's Declaration. Current Postal Service standards only require a customs declaration for package-size First-Class Mail International items that contain potentially dutiable contents.

This change also applies to “known mailers”, as defined in IMM 123.62, who send documents weighing 16 ounces or more. With these revisions, only mailpieces that meet the physical characteristic of a letter or flat may qualify—small packet items must bear a PS Form 2976.

For customer convenience, this change allows the Priority Mail Flat-Rate Envelopes containing only non-dutiable document contents weighing less than 16 ounces, and that are flat-size (no more than ¾ inch thick and uniformly thick), to be mailed without a PS Form 2976. However, a customs declaration will still be required for First-Class Mail International items and Priority Mail Flat-Rate Envelopes with non-dutiable contents if those items weigh 16 ounces or more.

As a further result of UPU Letter Post Regulation Article RL152, which stipulates that customs declarations must be affixed to the outside of the mailpiece, and consistent with USPS® aviation security guidelines, we will no longer allow the option to place a PS Form 2976 on the outside of a package and insert the required PS Form 2976-A within the package.

We are also clarifying that packaging must be large enough to accommodate the applicable customs form(s), postage, and any applicable markings and extra service labels on the address side of the item to be mailed, and that items requiring an export license must always use a PS Form 2976-A. As a result of these requirements, and consistent with UPU Articles RC 120 and 121, we are clarifying in Exhibit 123.61 that PS Form 2976-A (which is a parcel customs declaration) may not be used on Letter Post items. Letter Post items include First-Class Mail International items, the Priority Mail International flat-rate envelope and small flat-rate box, International Priority Airmail (IPA) items, and International Surface Air Lift (ISAL) items. Consequently, certain items that were previously mailable in one of the aforementioned Letter Post categories will now be required to be mailed via a different category of mail. Specifically, these include First-Class Mail International items over $400 in value, or any item requiring an export license.

The Postal Service adopts the following changes to Mailing Standards of the United States Postal Service, International Mail Manual (IMM), which is incorporated by reference in the Code of Federal Regulations. See 39 CFR Part 20.

List of Subjects in 39 CFR Part 20

Foreign relations, International postal services.

Accordingly, 39 CFR Part 20 is amended as follows:

PART 20—[AMENDED]

1. The authority citation for 39 CFR Part 20 continues to read as follows:

Authority: 5 U.S.C. 552(a); 39 U.S.C. 401, 404, 407, 408, 3622, 3632, and 3633.

2. Revise the following sections of Mailing Standards of the United States Postal Service, International Mail Manual (IMM) as follows:

Mailing Standards of the United States Postal Service, International Mail Manual (IMM)

1 International Mail Services

* * * * *

120 Preparation for Mailing

* * * * *

123 Customs Forms and Online Shipping Labels

* * * * *

123.6 Required Usage

123.61 Conditions

[Revise 123.61 as follows:]

The following conditions apply to customs forms for international mail items:

a. Except as provided in 123.62, mailers must use PS Form 2976 or PS Form 2976-A as described in Exhibit 123.61.

b. The surface area of the address side of the item to be mailed must be large enough to contain completely the applicable customs form, postage, and any applicable markings, endorsements, and extra service labels.

c. Regardless of any listing in Exhibit 123.61, items containing articles that require an export license (see 532) must always bear PS Form 2976-A.

Exhibit 123.61 Customs Declaration Form Usage by Mail Category

Type of item | Declared value, weight, or physical characteristic | Required PS Form | Comment
Global Express Guaranteed Items
All items | All values | 6182 | PS Form 6182, Commercial Invoice, is required for certain commodities and destinations. For determination, see Publication 141, Global Express Guaranteed Service Guide.
Express Mail International Items
All items | All values | 2976 or 2976-A | Required customs forms and endorsements vary by country and are specified in the Individual Country Listings.
Priority Mail International Items except Flat-Rate Envelope and Small Flat-Rate Box
All Priority Mail International items except the flat-rate envelope and small flat-rate box | All values | 2976-A | Except for the Priority Mail International flat-rate envelope and small flat-rate box, all items mailed in USPS-produced Priority Mail International packaging or any other container bearing a Priority Mail sticker or marked with the words “Priority Mail” are considered to be within the scope of this requirement.
Priority Mail International Flat-Rate Envelope (Maximum weight limit: 4 pounds)
All Priority Mail International flat-rate envelopes containing only documents except for the known mailer exemption described in the entry below | Under 16 ounces, no more than ¾-inch thick, and uniformly thick | None*
| 16 ounces or more, more than ¾-inch thick, or not uniformly thick | 2976
All Priority Mail International flat-rate envelopes containing only documents that are entered by a known mailer as defined in 123.62 | No more than ¾-inch thick and uniformly thick | None*
| More than ¾ inch thick or not uniformly thick | 2976
All Priority Mail International flat-rate envelopes containing potentially dutiable contents, regardless of weight | $400 or less | 2976 | Merchandise is permitted unless prohibited by the destination country.
| Over $400 | Prohibited | Items over $400 must be mailed using Global Express Guaranteed service, Express Mail International service, or Priority Mail International service (other than the flat-rate envelope or small flat-rate box).
Priority Mail International Small Flat-Rate Box (Maximum weight limit: 4 pounds)
All Priority Mail International small flat-rate boxes, regardless of contents | $400 or less | 2976 | Merchandise is permitted unless prohibited by the destination country.
| Over $400 | Prohibited | Items over $400 must be mailed using Global Express Guaranteed service, Express Mail International service, or Priority Mail International service (other than the flat-rate envelope or small flat-rate box).
First-Class Mail International Letters and Large Envelopes (Flats), Including International Priority Airmail (IPA) Items and International Surface Air Lift (ISAL) Items (Maximum weight limit: 4 pounds)
All letter-size and flat-size items, as defined in 243, containing only documents except for the known mailer exemption described in the entry below | Under 16 ounces | None*
| 16 ounces or more | 2976
All letter-size and flat-size items, as defined in 243, containing only documents that are entered by a known mailer as defined in 123.62 |  | None*
All items containing potentially dutiable contents, regardless of weight | $400 or less | 2976 | Merchandise is permitted unless prohibited by the destination country.
| Over $400 | Prohibited | Items over $400 must be mailed using Global Express Guaranteed service, Express Mail International service, or Priority Mail International service (other than the flat-rate envelope or small flat-rate box).
First-Class Mail International Packages (Small Packets), Including IPA Items and ISAL Items (Maximum weight limit: 4 pounds)
All First-Class Mail International packages (small packets), as defined in 243.4, regardless of contents | $400 or less | 2976 | Merchandise is permitted unless prohibited by the destination country.
| Over $400 | Prohibited | Items over $400 must be mailed using Global Express Guaranteed service, Express Mail International service, or Priority Mail International service (other than the flat-rate envelope or small flat-rate box).
Free Matter for the Blind or Other Physically Handicapped Persons
All items | Follow above requirements for relevant mail category, as appropriate | Follow above requirements for relevant mail category, as appropriate | Free matter for the blind or other physically handicapped persons requires a customs form for all articles.
M-bags (Airmail, IPA Service, and ISAL Service)
All M-bags | $400 or less | 2976 | A fully completed PS Form 2976 must to be affixed to PS Tag 158, M-bag Addressee Tag.
| Over $400 | Prohibited
* Qualifying items must be uniformly thick (243.34). First-Class Mail International items claimed at the package price, or Priority Mail International flat-rate envelopes that are not uniformly thick, or IPA and ISAL packages (small packets) containing only documents must always use PS Form 2976.

123.62 Known Mailers

[Revise 123.62 as follows:]

123.621 Overview

A “known mailer” may be exempt from the customs form requirement that would otherwise apply to flat-size mailpieces as defined in 243, weighing 16 ounces or more. A “known mailer” must meet one of the definitions in 123.622 and must meet the conditions in 123.623.

123.622 Definition

A “known mailer” must meet one of the following definitions:

a. A federal, state, or local government agency whose mail is regarded as Official Mail.

b. A contractor who sends out prepaid mail on behalf of a military service, provided the mail is endorsed “Contents for Official Use—Exempt from Customs Requirements.”

c. A business mailer who enters volume mailings through a business mail entry unit (BMEU) or other bulk mail acceptance location, completes a postage statement at the time of entry, pays postage through an advance deposit account, and uses a permit imprint for postage payment. For this purpose, the categories of mail that qualify are as follows:

1. Priority Mail International flat-rate envelope.

2. First-Class Mail International service.

3. International Priority Airmail (IPA) service.

4. International Surface Air Lift (ISAL) service.

123.623 Conditions

The following conditions apply to “known mailers”:

1. The mailpieces must contain no merchandise items or other contents that are potentially dutiable.

2. The mailpieces must be letter-size or flat-size as defined in 243.

3. If the mailpieces are mailed with a postage statement, the mailer must certify on the postage statement that the mailpieces contain no dangerous materials that are prohibited by postal regulations.

4. The import regulations of the destination country must allow individual mailpieces without a customs form affixed.

5. For IPA and ISAL mailings, the mailer must pay with a permit imprint or with a combination postage method (meter postage affixed to the piece and additional postage by permit imprint). IPA and ISAL mailpieces that are paid for by postage solely with a meter do not qualify for the “known mailer” exemption.

* * * * *

123.7 Completing Customs Forms

* * * * *

123.72 PS Form 2976-A, Customs Declaration and Dispatch Note—CP 72

123.721 Sender's Preparation of PS Form 2976-A

* * * * *

[Revise item r to read as follows in its entirety:]

Place the form set inside PS Form 2976-E (plastic envelope) and affix it to the address side of the package. Allow the Postal Service employee to complete PS Form 2976-A as described in 123.722.

* * * * *

2 Conditions for Mailing

210 Global Express Guaranteed

* * * * *

217 Mail Preparation

* * * * *

[Revise the heading and text of 217.3 as follows:]

217.3 Customs Forms

PS Form 6182, Commercial Invoice, is required for certain commodities and destinations. For determination, see Publication 141, Global Express Guaranteed Service Guide.

* * * * *

230 Priority Mail International

* * * * *

232 Priority Mail International Flat-Rate Envelope and Small Flat-Rate Box

* * * * *

[Revise the heading and text of 232.4 as follows:]

232.4 Customs Forms

Priority Mail International flat-rate envelopes (see 123.61) may be required to bear PS Form 2976 depending on their physical characteristics and may not exceed $400 in value. Priority Mail International small flat-rate boxes must always bear PS Form 2976 and may not exceed $400 in value.

* * * * *

240 First-Class Mail International

* * * * *

244 Mail Preparation

* * * * *

244.5 Customs Forms Required

244.51 Dutiable Merchandise

* * * * *

[Revise item c and add new item d as follows:]

c. When mailing articles that may be dutiable, the sender must use PS Form 2976 (see 123) and must also follow the special instructions under “Customs Forms Required” and “Observations” in the Individual Country Listings.

d. The maximum value for dutiable merchandise is $400. Items over $400 must be mailed using Global Express Guaranteed service, Express Mail International service, or Priority Mail International service (other than the flat-rate envelope or small flat-rate box).

* * * * *

260 Direct Sacks of Printed Matter to One Addressee (M-bags)

* * * * *

264 Mail Preparation

* * * * *

264.3 Customs Forms Required

[Revise 264.3 as follows:]

M-bags that contain potentially dutiable printed matter or any category of printed matter that is combined with allowable merchandise items (see 261.22) must be accompanied by a fully completed PS Form 2976, which is to be affixed to PS Tag 158, M-bag Addressee Tag. The maximum allowable value is $400.

* * * * *

270 Free Matter for the Blind or Other Physically Handicapped Persons

* * * * *

276 Customs Forms Required

[Revise the first sentence in 276 as follows:]

As defined in Exhibit 123.61, a fully completed PS Form 2976 or 2976-A must be affixed to each item. * * *

* * * * *

Stanley F. Mires,
Chief Counsel, Legislative.

[FR Doc. E9-13078 Filed 6-4-09; 8:45 am]

BILLING CODE 7710-12-P